FEDERAL MARITIME COMMISSION

Ocean Transportation Intermediary License Revocations

The Federal Maritime Commission hereby gives notice that the following ocean transportation intermediary licenses have been revoked pursuant to section 19 of the Shipping Act of 1984 (46 U.S.C. app. 1718) and the regulations of the Commission pertaining to the licensing of Ocean Transportation Intermediaries, effective on the corresponding dates shown below:

License Number: 4619F.

Name: Amad Corporation d/b/a Amad Forwarding Corporation.

Address: 3550 N.W. 33rd Street, Miami, FL 33142

Date Revoked: November 8, 2000.

Reason: Failed to maintain a valid bond.

License Number: 4384F.

Name: Continuity Corporation d/b/a Alamo Forwarding.

Address: 2320 McCue Road, Houston, TX 77056

Date Revoked: November 8, 2000.

Reason: Failed to maintain a valid bond.

License Number: 14049N.

Name: Ever-Lasting Int'l Inc.

Address: 179-39 149th Avenue, Rm. 105, Jamaica, NY 11434

Date Revoked: November 5, 2000.

Reason: Failed to maintain a valid bond.

License Number: 13730N.

Name: Freight Systems International, Inc.

Address: 1300 Newark Turnpike, Kearny, NJ 07032

Date Revoked: November 8, 2000.

Reason: Failed to maintain a valid bond.

License Number: 4541N.

Name: Southeast Logistics International, Inc.

Address: 122 Agape Street, Williamson, GA 30292

Date Revoked: October 31, 2000.

Reason: Failed to maintain a valid bond.

Sandra L. Kusumoto,
Director, Bureau of Consumer Complaints and Licensing.

[FR Doc. 00-31071 Filed 12-5-00; 8:45 am]

BILLING CODE 6730-01-P